DEPARTMENT OF HOUSING AND URBAN DEVELOPMENT

[Docket No. FR-5487-N-20]

Notice of Proposed Information for Public Comment for: Capture Energy Efficiency Measures for PIH

AGENCY: Office of the Chief Information Officer, HUD.

ACTION: Notice.

SUMMARY: The proposed information collection requirement described below will be submitted to the Office of Management and Budget (OMB) for review, as required by the Paperwork Reduction Act. The Department is soliciting public comments on the subject proposal.

HUD is creating the Capture Energy Efficiency Measures for PIH (CEEMP) data system to track the amount and types of Energy Conservation Measures (ECMs) being implemented within Public and Indian (PIH) units. The CEEMP data system is necessary in order to support the Department's Agency Performance Goals (APGs), specifically APG #13 which sets precise targets for completing green retrofits and creating energy efficient units. In addition to the direct support of HUD APG #13, the implementation of the CEEMP data system will enable HUD to provide reports to OMB on the progress of ECMs completed with PIH funding. Without the approval of the CEEMP data system, HUD will not be able to track PIH ECMs and will be unable to support the Department's APG #13 or provide OMB with ECM information.

DATES: Comments Due Date: February 6, 2012.

ADDRESSES: Interested persons are invited to submit comments regarding this proposal. Comments should refer to the proposal by name and/or OMB Control Number (2577-New) and should be sent to: HUD Desk Officer Office of Management and Budget, New Executive Office Building, Washington, DC 20503: Fax (202) 395-5806.

FOR FURTHER INFORMATION CONTACT: Colette Pollard., Departmental Reports Management Officer, QDAM, Department of Housing and Urban Development, 451 Seventh Street SW., Room 4176, Washington, DC 20410; telephone: (202) 402-2400, (this is not a toll-free number) or email Ms. Pollard at Colette.Pollard@hud.gov.

SUPPLEMENTARY INFORMATION: The Department will submit the proposed information collection to OMB for review, as required by the Paperwork Reduction Act of 1995 (44 U.S.C. chapter 35, as amended). This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Capture Energy Efficiency Measures for PIH (CEEMP).

OMB Control Number, if Applicable: 2577—New.

Description of the Need for the Information and Proposed Use: HUD is creating the Capture Energy Efficiency Measures for PIH (CEEMP) data system to track the amount and types of Energy Conservation Measures (ECMs) being implemented within Public and Indian (PIH) units. The CEEMP data system is necessary in order to support the Department's Agency Performance Goals (APGs), specifically APG #13 which sets precise targets for completing green retrofits and creating energy efficient units. In addition to the direct support of HUD APG #13, the implementation of the CEEMP data system will enable HUD to provide reports to OMB on the progress of ECMs completed with PIH funding. Without the approval of the CEEMP data system, HUD will not be able to track PIH ECMs and will be unable to support the Department's APG #13 or provide OMB with ECM information.

Agency Form Numbers, if Applicable: N/A, the data will be collected utilizing a web-based application. Recipients will be required to complete the collection online. To the greatest extent possible, all data will be pre-populated to minimize data entry. Once the initial file is created, recipients will be able to update the same file and submit on an ongoing basis.

Members of Affected Public: State, Local or Local Government and Non-profit organization.

Estimation of the Total Number of Hours Needed To Prepare the Information Collection Including Number of Respondents, Frequency of Response, and Hours of Response: The estimated number of respondents is 3,150 with 50,400 annual responses and the total reporting burden is 151,200 hours.

Status of the Proposed Information Collection: New.

Authority: Section 3506 of the Paperwork Reduction Act of 1995, 44 U.S.C. chapter 35, as amended.

Dated: December 2, 2011.
Merrie Nichols-Dixon,
Deputy Director for Office of Policy, Program and Legislative Initiatives.

[FR Doc. 2011-31421 Filed 12-6-11; 8:45 am]

BILLING CODE 4210-67-P